DEPARTMENT OF DEFENSE

Office of the Secretary

[DoD-2007-OS-0045]

Privacy Act of 1974; Systems of Records

AGENCY: Defense Threat Reduction Agency.

ACTION: Notice to alter a system of records.

SUMMARY: The Defense Threat Reduction Agency proposes to alter a system of records notice to its inventory of record systems subject to the Privacy Act of 1974 (5 U.S.C. 552a), as amended.

DATES: This action will be effective without further notice on June 8, 2007 unless comments are received that would result in a contrary determination.

ADDRESSES: Send comments to the Freedom of Information and Privacy Office, Defense Threat Reduction Agency, 8725 John J. Kingman Road, Fort Belvoir, VA 22060-6201

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The proposed system report, as required by 5 U.S.C. 552a(r) of the Privacy Act of 1974, as amended, was submitted on May 2, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

L.M. Bynum,
Alternate OSD Federal Register Liaison Officer, Department of Defense.

HDTRA 014

System name:

Student Records (August 5, 2005, 70 FR 45371).

Changes:

* * * * *

Categories of individuals covered by the system:

Delete entry and replace with “Department of Defense, Department of Energy, FBI and CIA personnel, local and state government officials, and civilian organizations personnel.

Categories of Records in the System:

Delete entry and replace with “Individual's name, Social Security Number (SSN), occupational series, grade, supervisory status, registration, student development curricula, training data (start and completion dates), course descriptions, and related data. Where training is required for professional licenses, certification, or recertification, the file may include proficiency data in one or more skill areas. Electronic records may contain computer logon data and personal emergency contact information.”

Authority for maintenance of the system:

Delete entry and replace with “5 U.S.C. 301, Departmental Regulations; 5 U.S.C. 4103, Establishment of Training Programs; 10 U.S.C. 1701, Management Policies; E.O. 11348, Providing for the further training of Government employees; 5 CFR part 410, Office of Personnel Management-Training; and E.O. 9397 (SSN).”

* * * * *

Notification procedure:

Delete address and replace with “Defense Nuclear Weapons School, Defense Threat Reduction Agency, 1900 Wyoming Boulevard SE, Kirtland Air Force Base, Albuquerque, NM 87117-5669.”

Record access procedures:

Delete address and replace with “Nuclear Weapons School, Defense Threat Reduction Agency, 1900 Wyoming Boulevard SE, Kirtland Air Force Base, Albuquerque, NM 87117-5669.”

Contesting record procedures:

Delete entry and replace with “The DTRA rules for accessing records, for contesting contents, and appealing initial agency determinations are contained in 32 CFR part 318, or may be obtained from the Defense Threat Reduction Agency, Policy & Program Development Division, 8725 John J. Kingman Road, Stop 6201, Fort Belvoir, VA 22060.”

Record source categories:

Add to the entry “or instructor.”

* * * * *

HDTRA 014

System name:

Student Records.

System location:

Defense Nuclear Weapons School, Defense Threat Reduction Agency, 1900 Wyoming Boulevard SE., Kirtland Air Force Base, Albuquerque, NM 87117-5669.

Categories of individuals covered by the system:

Department of Defense, Department of Energy, FBI and CIA personnel, local and state government officials, and civilian organizations personnel.

Categories of records in the system:

Individual's name, Social Security Number (SSN), occupational series, grade, supervisory status, registration, student development curricula, training data (start and completion dates), course descriptions, and related data. Where training is required for professional licenses, certification, or recertification, the file may include proficiency data in one or more skill areas. Electronic records may contain computer logon data and personal emergency contact information.

Authority for maintenance of the system:

5 U.S.C. 301, Departmental Regulations; 5 U.S.C. 4103, Establishment of Training Programs; 10 U.S.C. 1701, Management Policies; E.O. 11348, Providing for the further training of Government employees; 5 CFR part 410, Office of Personnel Management-Training; and E.O. 9397 (SSN).

Purpose(s):

To determine applicant eligibility, as a record of attendance and training, completion or elimination, as a locator, and a source of statistical information.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of DTRA's compilation of systems of records notices apply to this system.

Policies and practices for storing, retrieving, accessing, retaining, and disposing of records in the system:

Storage:

Paper records in file folders and electronic storage media.

Retrievability:

Individual's name and/or Social Security Number (SSN).

Safeguards:

Records and computer printouts are available only to authorized persons with an official need-to-know. The files are in a secure office area with limited access during duty hours. The office is locked during non-duty hours.

Retention and disposal:

Individual's academic records are retained for 75 years. Records are maintained at the school for five years, then subsequently retired to the Federal Records Center, Fort Worth, TX for the remaining 70 years and then destroyed.

System manager(s) and address:

Commandant, Defense Nuclear Weapons School, Defense Threat Reduction Agency, 1900 Wyoming Boulevard SE., Kirtland Air Force Base, NM 87117-5669.

Notification procedure:

Individuals seeking to determine whether information about themselves is contained in this system of records should address written inquiries to the Defense Nuclear Weapons School, Defense Threat Reduction Agency, 1900 Wyoming Boulevard SE., Kirtland Air Force Base, Albuquerque, NM 87117-5669.

Requests should contain individual's name, Social Security Number (SSN), current address, and sufficient information to permit locating the record.

For personal visits, the individual should provide military or civilian identification card.

Record access procedures:

Individuals seeking access to information about themselves contained in this system of records should address written inquiries to the Nuclear Weapons School, Defense Threat Reduction Agency, 1900 Wyoming Boulevard SE., Kirtland Air Force Base, Albuquerque, NM 87117-5669.

Requests should contain individual's name, Social Security Number (SSN), current address, and sufficient information to permit locating the record.

For personal visits, the individual should provide military or civilian identification card.

Contesting record procedures:

The DTRA rules for accessing records and for contesting contents and appealing initial agency determinations are published in DTRA Instruction 5400.11B; 32 CFR part 318; or may be obtained from the General Counsel, Defense Threat Reduction Agency, 8725 John J. Kingman Road, Fort Belvoir, VA 22060-6201.

Record source categories:

From the individual or instructor.

Exemptions claimed for the system:

None.

[FR Doc. E7-8864 Filed 5-8-07; 8:45 am]

BILLING CODE 5001-06-P